INTERNATIONAL TRADE COMMISSION

[Investigation Nos. 701-TA-498 and 731-TA-1213 (Final)]

Certain Steel Threaded Rod From India; Revised Schedule for the Subject Investigations

AGENCY: United States International Trade Commission.

ACTION: Notice.

DATES: Effective Date: April 28, 2014.

FOR FURTHER INFORMATION CONTACT: Nathanael Comly (202-205-3174), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On December 31, 2013, the Commission established a schedule for the conduct of the final phase of the subject investigations (79 FR 3245, January 17, 2014). Subsequently, the Department of Commerce extended the date for its final determination in the investigations to no later than 135 days after the publication of the preliminary determination (79 FR 9164, February 18, 2014). The Commission, therefore, is revising its schedule to conform with Commerce's new schedule.

The Commission's new schedule for the investigations is as follows: The deadline for filing party comments on Commerce's final determination is July 15, 2014; the staff report in the final phase of these investigations will be placed in the nonpublic record on July 30, 2014, and a public version will be issued thereafter.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: April 28, 2014.
Lisa R. Barton,
Secretary to the Commission.

[FR Doc. 2014-10030 Filed 5-1-14; 8:45 am]

BILLING CODE 7020-02-P